ENVIRONMENTAL PROTECTION AGENCY

[FRL-8208-4]

Tribal Strategy; Solid Waste Disposal Act, Subtitle I, as Amended by Title XV, Subtitle B of the Energy Policy Act of 2005

AGENCY: Environmental Protection Agency.

ACTION: Notice of availability.

SUMMARY: By this notice, the Environmental Protection Agency (EPA), Office of Underground Storage Tanks (OUST) is advising the public that on August 7, 2006, EPA issued a strategy for implementing the underground storage tank program in Indian Country (referred to as the tribal strategy) and made the strategy available on EPA's Web site at: www.epa.gov/oust/fedlaws/epact_05.htm#Final. EPA developed the tribal strategy to implement Section 1529 of the Energy Policy Act of 2005.

DATES: On August 7, 2006, EPA issued and posted the tribal strategy on EPA's Web site. EPA is notifying the public via this notice that the final tribal strategy is available as of August 14, 2006.

ADDRESSES: EPA posted the final tribal strategy on our Web site at: www.epa.gov/oust/fedlaws/epact_05.htm#Final. Paper copies are also available from the National Service Center for Environmental Publications (NSCEP), EPA's publications distribution warehouse upon request. You may request copies from NSCEP by calling 1-800-490-9198; writing to U.S. EPA/NSCEP, Box 42419, Cincinnati, OH 45242-0419; or faxing your request to NSCEP at 513-489-8695. Ask for: Strategy For An EPA/Tribal Partnership To Implement Section 1529 Of The Energy Policy Act Of 2005 (EPA-510-R-06-005, August 2006).

FOR FURTHER INFORMATION CONTACT: Joseph Vescio, EPA's Office of Underground Storage Tanks, at vescio.joseph@epa.gov or (703) 603-0003.

SUPPLEMENTARY INFORMATION: On August 8, 2005, President Bush signed the Energy Policy Act of 2005. Title XV, Subtitle B of this act, entitled the Underground Storage Tank Compliance Act of 2005, contains amendments to Subtitle I of the Solid Waste Disposal Act. This is the first Federal legislative change for the underground storage tank (UST) program since its inception over 20 years ago. This new law significantly affects Federal and state UST programs; requires major changes to the programs; and is aimed at reducing UST releases to our environment.

Section 1529 of the Energy Policy Act requires that EPA, in coordination with Indian tribes, develop and implement a strategy for implementing the UST program in Indian Country. EPA worked closely with tribes to develop the tribal strategy. In June 2006, EPA released a draft of the tribal strategy for public comment. After considering comments, on August 7, 2006, EPA issued the tribal strategy. EPA will implement and use this strategy as a basis for its August 2007 report to Congress, which is required by the Energy Policy Act.

You may view the tribal strategy at: www.epa.gov/oust/fedlaws/epact_05.htm#Final, which is EPA's Web site. You may also obtain paper copies from NSCEP, EPA's publications distribution warehouse. You may request copies from NSCEP by calling 1-800-490-9198; writing to U.S. EPA/NSCEP, Box 42419, Cincinnati, OH 45242-0419; or faxing your request to NSCEP at 513-489-8695. Ask for: Strategy For An EPA/Tribal Partnership To Implement Section 1529 Of The Energy Policy Act Of 2005 (EPA-510-R-06-005, August 2006).

Dated: August 7, 2006.
Susan Parker Bodine,
Assistant Administrator, Office of Solid Waste and Emergency Response.

[FR Doc. E6-13282 Filed 8-11-06; 8:45 am]

BILLING CODE 6560-50-P